DEPARTMENT OF HEALTH AND HUMAN SERVICES

Administration for Children and Families

Office of Refugee Resettlement

[CFDA Number: 93.676]

Announcement of the Award of 15 Single-Source Program Expansion Supplement Grants to Unaccompanied Alien Children's Shelter Care Grantees

AGENCY: Office of Refugee Resettlement, ACF, HHS.

ACTION: Announcement of the award of 15 single-source program expansion grants to 12 current grantees to expand supportive services to the increasing number of unaccompanied alien children (UAC).

SUMMARY: The Administration for Children and Families (ACF), Office of Refugee Resettlement (ORR) announces the award of 15 single-source program expansion supplement grants to the following 12 current grantees, for a total of $1,420,955. Two grantees are receiving multiple supplement grants: BCFS Health and Human Services, San Antonio, TX—$492,123 and $313,916 totaling $806,039; and International Education Services, Los Fresnos, TX—$35,433, $15,486, and $76,698 totaling $127,617.

Organization | Location | Amount
BCFS Health and Human Services | San Antonio, TX | $806,039
Catholic Charities Houston | Houston, TX | 170,704
Catholic Charities of Miami—Boystown | Miami, FL | 127,769
Children's Center, Inc. | Galveston, TX | 19,000
Florence Crittenton Services of Orange County | Fullerton, CA | 5,612
International Education Services (IES) | Los Fresnos, TX | 127,617
Lutheran Social Services of the South—Bokenkamp Children's Shelter | Austin, TX | 77,165
Lutheran Social Services of the South—El Paso | Austin, TX | 17,432
Morrison Child and Family Services | Portland, OR | 21,660
Tumbleweed Center for Youth Development | Phoenix, AZ | 12,000
Youth For Tomorrow | Bristow, VA | 8,370
Youthcare | Seattle, WA | 27,587

These supplement grants will expand supportive services (additional transportation costs, staff overtime, additional staff hiring) required to meet the number of UAC referrals from the Department of Homeland Security (DHS). The UAC program is mandated by section 462 of the Homeland Security Act to ensure appropriate placement of all referrals from the DHS. The UAC Shelter Care program is tied to DHS apprehension strategies and the sporadic number of border crossers.

DATES: October 1, 2012 through September 30, 2013.

FOR FURTHER INFORMATION CONTACT: Jallyn Sualog, Acting Director, Division of Children's Services, Office of Refugee Resettlement, 901 D Street SW., Washington, DC 20447, Telephone (202) 401-4997. Email: jallyn.sualog@acf.hhs.gov.

SUPPLEMENTARY INFORMATION: Since the beginning of FY 2013, the UAC program has seen a dramatic increase in the number of DHS referrals. The influx of border crossers referred by DHS has grown beyond anticipated rates and has resulted in the need for a significant increase in the supportive services provided to unaccompanied children. The UAC program has specific requirements for the provision of services to unaccompanied alien children. These grantee organizations are the only entities with the infrastructure, licensing, experience, and appropriate level of trained staff to meet the service requirements and the urgent need for the expansion of services required to respond to unexpected arrivals of unaccompanied children.

Statutory Authority: Section 462 of the Homeland Security Act, (6 U.S.C. 279) and sections 235(c) and 235(d) of the William Wilberforce Trafficking Victims Protection Reauthorization Act of 2008 (8 U.S.C. 1232(c) and 1232(d)).

Eskinder Negash,
Director, Office of Refugee Resettlement.

[FR Doc. 2013-22424 Filed 9-13-13; 8:45 am]

BILLING CODE 4184-45-P